NUCLEAR REGULATORY COMMISSION

Privacy Act of 1974, as Amended; New Routine Use

AGENCY: Nuclear Regulatory Commission.

ACTION: Notice of New Routine Use.

SUMMARY: The Nuclear Regulatory Commission (NRC) proposes to adopt a new routine use that will apply to all of its systems of records allowing disclosure to appropriate persons and entities for purposes of response and remedial efforts in the event that there has been a breach of data contained in the systems. This routine use will facilitate an effective response to a confirmed or suspected breach by permitting disclosure to those individuals affected by the breach, as well as to others who are in a position to assist in the NRC's response efforts, either by assisting in notification to affected individuals or by otherwise playing a role in preventing, minimizing, or remedying harm from the breach.

DATES: This revision will become effective without further notice on September 12, 2007 unless comments received on or before that date cause a contrary decision. If changes are made based on NRC's review of comments received, a new final notice will be published. We note that the text of the proposed routine use is taken from the routine use that has already been published in final form by the Department of Justice after public comment at 72 FR 3410 (January 25, 2007).

ADDRESSES: Mail comments to the Chief, Rulemaking, Directives, and Editing Branch, Division of Administrative Services, Office of Administration, U.S. Nuclear Regulatory Commission, Washington, DC 20555-0001. Comments can also be transmitted to the Chief of the Rulemaking, Directives, and Editing Branch by means of facsimile transmission to (301) 415-5144, or by e-mail to nrcrep@nrc.gov.

FOR FURTHER INFORMATION CONTACT: Sandra S. Northern, Privacy Program Officer, FOIA/Privacy Act Team, Records and FOIA/Privacy Services Branch, Information and Records Services Division, Office of Information Services, U.S. Nuclear Regulatory Commission, Washington, DC 20555-0001, telephone: 301-415-6879; e-mail: ssn@nrc.gov.

SUPPLEMENTARY INFORMATION: NRC proposes to revise its Prefatory Statement of General Routine Uses to include a new routine use (7) that will apply to all of its current systems of records, published October 10, 2006 (71 FR 59614) and December 15, 2006 (71 FR 77072), allowing disclosure to appropriate persons and entities for purposes of response and remedial efforts in the event that there has been a breach of data contained in the systems. This routine use will facilitate an effective response to a confirmed or suspected breach by allowing disclosure to those individuals affected by the breach, as well as to others who are in a position to assist in the NRC's response efforts, either by assisting in notification to affected individuals or by otherwise playing a role in preventing, minimizing, or remedying harm from the breach. Accordingly, the proposed new routine will read:

* * * * *

7. A record from this system of records may be disclosed as a routine use to appropriate agencies, entities, and persons when (1) the NRC suspects or has confirmed that the security or confidentiality of information in the system of records has been compromised; (2) the NRC has determined that as a result of the suspected or confirmed compromise there is a risk of harm to economic or property interests, identity theft or fraud, or harm to the security or integrity of this system or other systems or programs (whether maintained by the NRC or another agency or entity) that rely upon the compromised information; and (3) the disclosure made to such agencies, entities, and persons is reasonably necessary to assist in connection with the NRC's efforts to respond to the suspected or confirmed compromise and prevent, minimize, or remedy such harm.

A report on this revision is being sent to the Office of Management and Budget (OMB), the Committee on Homeland Security and Governmental Affairs of the U.S. Senate, and the Committee on Government Reform of the U.S. House of Representatives as required by the Privacy Act and OMB Circular No. A-130, Appendix I, “Federal Agency Responsibilities for Maintaining Records About Individuals.”

Dated at Rockville, Maryland, this 27th day of July, 2007.
For the Nuclear Regulatory Commission.
Edward T. Baker III,
Director Office of Information Services.

[FR Doc. E7-15082 Filed 8-2-07; 8:45 am]

BILLING CODE 7590-01-P